DEPARTMENT OF LABOR

Office of Labor-Management Standards

Employment Standards Administration

29 CFR Part 220

RIN 1215-AB55

Airline Employee Protection Program; Rescission of Regulations Pursuant to Pub. L. 105-220, Which Repealed the Airline Employee Protection Program

AGENCY: Office of Labor-Management Standards, Employment Standards Administration, Labor.

ACTION: Final rule, rescission of regulations.

SUMMARY: Section 199(a)(6) of the Workforce Investment Act, Pub. L. 105-220, 112 Stat. 1059 (1998), repealed the Airline Employee Protection Program, originally established pursuant to Section 43 of the Airline Deregulation Act, Pub. L. 95-504, 92 Stat. 1705 (1978), and subsequently codified at 49 U.S.C. 42101-42106. In accordance with the provisions of the Workforce Investment Act, the Department of Labor (Department) is issuing this final rule to rescind its regulations established by 29 CFR Part 220, to administer the Airline Employee Protection Program.

DATES: Effective Date: May 22, 2006.

FOR FURTHER INFORMATION CONTACT: Patrick A. Hyde, Chief, Division of Statutory Programs, Office of Labor-Management Standards, Employment Standards Administration, U.S. Department of Labor, Room N5112, 200 Constitution Avenue, NW., Washington, DC 20210; telephone 202-693-0126. This is not a toll-free number.

SUPPLEMENTARY INFORMATION: On December 27, 1985, the Department of Labor issued regulations to implement the Airline Employee Protection program established by Section 43 of the Airline Deregulation Act of 1978. Secretary's Order Number 1-79 and 5-84, assigned to the Bureau of Labor Management Relations and Cooperative Programs, now the Office of Labor Management Standards, the responsibility for provisions concerning protected employees' priority hire rights, air carriers' duty to hire and the comprehensive job listing. The regulations covered the following items: Rehire Program and Qualifying Dislocations, Waiting Period, Exemption from the Duty to Hire, Definition of Protected Employees, Equal Employment Opportunity, New Entrants' Requirement to List Vacancies, Recall Rights, Temporary and Seasonal Employees, Responsibilities of Non-Operating Carriers, Participation of Labor Organizations, Eligibility for Designated Status, Notices of Rights, Effective Period, Submission of Semiannual Reports, and Enforcement.

In 1998, Congress repealed Section 43 of the Airline Deregulation Act in Section 199(a)(6) of the Workforce Investment Act, Pub. L. No. 105-220, 112 Stat. 1059 (1998). As a result, the regulations implementing the Airline Employee Protection Program are now without force or effect because their underlying statutory authority has been repealed. Consequently, this final rule rescinds the regulations.

A comment period for this rescission is unnecessary because the enabling statute has been repealed, and, consequently, the regulations are now without force or effect. See 5 U.S.C. 553(b)(B). For this same reason, good cause exists to make the rescission effective immediately upon this rule's publication. See 5 U.S.C. 553(d)(3).

Regulatory Procedures

Regulatory Flexibility Act

The rescission of the regulations administering the Airline Employee Protection Program through this final rule will not have a significant economic impact on a substantial number of small entities. Therefore, a regulatory flexibility analysis under the Regulatory Flexibility Act (5 U.S.C. 605(b)) is not required. The Assistant Secretary for Employment Standards has certified this conclusion to the Chief Counsel for Advocacy of the Small Business Administration.

Unfunded Mandates Reform

Executive Order 12875—This rule will not create an unfunded Federal mandate upon any State, local or tribal government.

Unfunded Mandates Reform Act of 1995—This rule will not include any Federal mandate that may result in increased expenditures by State, local, and tribal governments, in the aggregate, of $100 million or more, or in increased expenditures by the private sector of $100 million or more.

Paperwork Reduction Act

The rescission of the regulations administering the Airline Employee Protection Program through this final rule contains no new information collection requirements for purposes of the Paperwork Reduction Act of 1995 (44 U.S.C. 3501 et seq.).

Small Business Regulatory Enforcement Fairness Act of 1996

This rule is not a major rule as defined by § 804 of the Small Business Regulatory Enforcement Fairness Act of 1996. This rule will not result in an annual effect on the economy of $100,000,000 or more; a major increase in costs or prices; or significant adverse effects on competition, employment, investment, productivity, innovation, or on the ability of the United States-based companies to compete with foreign-based companies in domestic and export markets.

Accordingly, under the authority of section 199(a)(6) of the Workforce Investment Act, part 220 of title 29 of the Code of Federal Regulations is removed.

Signed at Washington, DC, this 15th day of May 2006.
Victoria A. Lipnic,
Assistant Secretary for Employment Standards.
Signed at Washington, DC, this 15th day of May 2006.
Don Todd,
Deputy Assistant Secretary for Labor-Management Standards.

[FR Doc. 06-4727 Filed 5-19-06; 8:45 am]

BILLING CODE 4510-CP-P